ENVIRONMENTAL PROTECTION AGENCY

[FRL-7175-4]

Federal Interagency Working Group on Environmental Justice: Environmental Justice Revitalization Projects

AGENCY: Environmental Protection Agency (EPA).

ACTION: Notice.

SUMMARY: The Interagency Working Group on Environmental Justice (IWG) is soliciting a second round of nominations for collaborative partnerships working to address local environmental justice concerns. The following information outlines the goals, guidelines, and nomination procedures for IWG Environmental Justice/Revitalization Demonstration Projects.

DATES: Nominations must be submitted to the U.S. Environmental Protection Agency and postmarked no later than midnight Thursday, August 16, 2002.

ADDRESSES: For Regional questions:

Region l: Connecticut, Maine, Massachusetts, New Hampshire, Rhode Island, Vermont.

Name: Kathy Castagna

Address: U.S. Environmental Protection Agency, One Congress Street, 11th Floor, Boston, MA 02203-0001

Phone: 617-918-1429 F: 617-918-1029

e-Mail: castagna.kathy@epa.gov

Region 2: New Jersey, New York, Puerto Rico, U.S. Virgin Islands

Name: Terry Wesley

Address: U.S. Environmental Protection Agency, 290 Broadway, 26th Floor, New York, NY 10007

Phone: 212-637-5027 F: 212-637-4943

e-Mail: wesley.terry@epa.gov

Region 3: Delaware, District of Columbia, Maryland, Pennsylvania, Virginia, West Virginia

Name: Reginald Harris

Address: U.S. Environmental Protection Agency, 1650 Arch St. (MC-3ECOO), Philadelphia, PA 19103

Phone: 215-814-2988 F: 215-814-2905

e-Mail: harris.reggie@epa.gov

Region 4: Alabama, Florida, Georgia, Kentucky, Mississippi, North Carolina, South Carolina, Tennessee

Name: Cynthia Peurifoy

Address: U.S. Environmental Protection Agency, 61 Forsyth Street, Atlanta, GA 30303

Phone: 404-562-9649 F: 404-562-9664

e-Mail: peurifoy.cynthia@epa.gov

Region 5: Illinois, Indiana, Michigan, Minnesota, Ohio, Wisconsin

Name: Karla Owens

Address: U.S. Environmental Protection Agency, 77 West Jackson Blvd. T-16J, Chicago, IL 60604-3507

Phone: 312-886-5993 F: 312-886-2737

E-Mail: owens.karla@epa.gov

Region 6: Arkansas, Louisiana, New Mexico, Oklahoma, Texas

Name: Olivia R. Balandran

Address: U.S. Environmental Protection Agency, Fountain Place, 12th Floor., 1445 Ross Ave., (RA-D), Dallas, TX 75202-2733

Phone: 214-665-7257 F: 214-665-6648

E-Mail: balandran.olivia@epa.gov

Region 7: Iowa, Kansas, Missouri, Nebraska

Name: Althea Moses

Address: U.S. Environmental Protection Agency, 901 North 5tth Street (ECORA), Kansas City, KS 66101

Phone: 913-551-7649 F: 913-551-7941

E-Mail: moses.althea@epa.gov

Region 8: Colorado, Montana, North Dakota, South Dakota, Utah, Wyoming

Name: Elisabeth Evans

Address: U.S. Environmental Protection Agency, 999 18th Street, Suite 500, Denver, CO 80202-2405

Phone: 303-312-6053 F: 303-312-6409

E-Mail: evans.elisabeth@epa.gov

Region 9: Arizona, California, Hawaii, Nevada, American Samoa, Guam

Name: Willard Chin

Address: U.S. Environmental Protection Agency, 75 Hawthorne Street, San Francisco, CA 94105

Phone: 415-972-3797 F: 415-947-3562

E-Mail: chin.willard@epa.gov

Region 10: Alaska, Idaho, Oregon, Washington

Name: Michael Letourneau

Address: U.S. Environmental Protection Agency, 1200 Sixth Avenue (CEJ-163), Seattle, WA 98101

Phone: 206-553-1687 F: 206-553-7176

E-Mail: letourneau.mike@epa.gov

Name: Victoria Plata

Address: U.S. Environmental Protection Agency, 1200 Sixth Avenue (CEJ-163), Seattle, WA 98101

Phone: 206-553-8580 F: 206-553-7176

E-Mail: plata.victoria@epa.gov

To submit nominations: Delta Valente, Office of Environmental Justice, Mail Code 2201A, U.S. EPA, 1200 Pennsylvania Avenue, Washington, DC 20460.

FOR FURTHER INFORMATION CONTACT: Delta Valente, Office of Environmental Justice, Mail Code 2201A, U.S. EPA, 1200 Pennsylvania Avenue, Washington, DC 20460, Telephone (202) 564-2594.

SUPPLEMENTARY INFORMATION: What are the main goals of the IWG Environmental Justice/Revitalization Demonstration Projects: (1) To support and encourage better leveraging of existing federal resources in supporting local efforts to address environmental justice concerns, (2) To support strong potential partnerships, and (3) To identify the “best practices” of effective collaborative partnerships for communities, governmental agencies, and other stakeholders working on solutions to environmental justice issues facing communities.

What are the benefits of being designated an IWG Environmental Justice/Revitalization Demonstration Project: Selection is not accompanied by any specific funding commitment from any federal agency; however, selection will bring the project national exposure and recognition, provide greater access to resources from various stakeholders, and promote the project as a model for future collaborative partnerships.

Who may apply to be an IWG Environmental Justice/Revitalization Demonstration Project: Any organization or group of organizations involved in collaborative multi-stakeholder partnerships to address local environmental justice concerns. These organizations include community-based organizations, non-profit organizations, academia, business and industry, faith-based organizations, and other interested groups, and all levels of government (federal, state, local or tribal). Each project must serve a minority, low-income, or tribal community and address one or more environmental justice concerns. Each project must include at least two federal agencies and a mix of other stakeholder partners.

How does one apply to be an IWG Environmental Justice/Revitalization Demonstration Project: Submit a proposal of approximately 10 pages in length, describing community based environmental justice issue(s) and how a project, through a community-based process that includes a multi-stakeholder partnership will address them. Proposal should include description of community vision, implementation approaches and work plan, roles and commitments of partners, and the project's expected benefits—including its contribution to community revitalization. Proposals should describe to what extent the project includes the following elements:

1. Community-based Leadership Formation and Issue Identification.

2. Capacity- and Partnership-Building in Multi-Stakeholder Process.

3. Supportive and Facilitative Role of Government.

4. Strategic Planning and Community Vision.

5. Sound Implementation.

6. Identification of Lesson Learned and Replication of Best Practices.

How can I get information and/or assistance about preparing a nomination: Detailed instructions are provided in the IWG Environmental Justice/Revitalization Demonstration Project Request for Nominations Announcement (IWGDP-02), available through the EPA Office of Environmental Justice (OEJ). Federal Agency Environmental Justice Coordinators and IWG Representatives also can provide assistance. Information can be obtained from Delta Valente, OEJ, 800-962-6215. The OEJ Web site is http://www.epa.gov/compliance/recent/ej.html.

Dated: April 17, 2002.
Barry E. Hill,
Director, Office of Environmental Justice.

Request for Nominations (April 15, 2002-August 16, 2002)

FY 2002

Identification Number: IWGDP-02

Date of Notification: April 15, 2002

Submission Due Date: August 16, 2002

Contents

I. Introduction: Background and Benefits of Participation

II. Environmental Justice Revitalization Projects Overview

III. Project Technical Considerations

IV. Project Descriptions

V. Selection Process

VI. Program Schedule for 2002

VII. Reporting

Appendix A: Elements of Success for Environmental Justice Collaborative Model

Appendix B. Federal Interagency Working Group on Environmental Justice (IWG)

Appendix C: Contacts

I. Introduction

The Federal Interagency Working Group on Environmental Justice (IWG) is soliciting a second round of nominations for collaborative partnerships working to address local environmental justice concerns and promote community revitalization. This announcement outlines the purpose, goals, and general procedures and guidelines for nominating demonstration projects, for Fiscal Year (FY) 2002.

The purpose of the demonstration projects is to examine how collaborative models can be utilized for achieving environmental justice and promoting community revitalization. The selected projects will be designated as IWG Environmental Justice Revitalization Projects. In FY 2000, the IWG selected 15 collaborative projects.

Selection is not accompanied by any specific funding commitment from any federal agency; however, selection will bring the project national exposure and recognition, provide greater access to resources from various stakeholders, and promote the project as a model for future collaborative partnerships.

Nominations must be submitted to the U.S. Environmental Protection Agency (EPA) and postmarked no later than midnight Friday, August 16, 2002. Nominations may be submitted via the U.S. Postal Service or other carriers. Nominations must be submitted to:

U.S. Environmental Protection Agency, 1200 Pennsylvania Avenue, NW (MC 2201A), Washington, DC 20460-0001, Attention: Delta Valente, IWG National Program Manager

Due to possible delays in postal delivery, project narratives also should be sent to Delta Valente via e-mail (valente.delta@epa.gov) or fax 202-501-1163. For further information, contact Delta Valente (800-962-6215) or visit http://www.epa.gov/compliance/recent/ej.html.

A. Background

The IWG is composed of representatives from different federal agencies and White House offices identified in Executive Order 12898. (“Federal Actions to Address Environmental Justice in Minority Populations and Low-Income Populations,” February 11, 1994) The IWG's primary goal is to work with each federal agency to integrate environmental justice within its programs, policies, and activities. An important strategy to promote such integration is greater interagency cooperation and coordination within the context of multi-stakeholder collaborative partnerships. Interagency coordination and cooperation is needed to effectively identify available federal government-wide resources which are available to meet environmental justice opportunities presented by the stakeholders. Once the available federal agency resources are identified it is critical to identify all resources within the various stakeholders that can be partnered with or enhanced by the collaborative effort. The IWG has focused on three activities to support such partnerships: (1) Nurturing and promoting local demonstration projects; (2) promoting a national dialogue on collaborative models; and (3) identifying the elements of success for developing a coherent collaborative model.

Since environmental justice concerns are beyond the scope of any single federal agency, the IWG is working to ensure that federal agencies effectively coordinate and collaborate to address the range of issues that environmental justice embodies. At the heart of the IWG's efforts are demonstration projects, which are intended to serve as future models for successful environmental justice initiatives. These projects feature collaborative partnerships among two or more federal agencies, state and local governments, tribal governments, community-based organizations, academia, non-governmental organizations, and business/industry. As a result of the initial round of IWG demonstration projects, a coherent collaborative problem-solving model is beginning to emerge. In addition, it became clear that promoting community revitalization is an underlying goal of virtually all efforts to address environmental justice. To enhance this model, the EPA, as chair of the IWG, is coordinating a second round of demonstration projects to identify additional “best practices” for effective environmental justice collaborative partnerships to promote community revitalization.

B. Benefits of Participation

What are the benefits of being designated an IWG Environmental Justice Revitalization Project?

Being designated as an IWG Environmental Justice Revitalization Project enhances the ability of community-based collaborative efforts to address environmental justice issues and promote community revitalization. A project's selection enables local partnerships to better access technical assistance, resources, and other means of support. The benefits include the following:

• Opportunities for participants (community-based organizations, academia, business and industry, civic and faith-based organizations, other interested parties, and all levels of government, i.e., federal, state, tribal or local) to learn valuable lessons for addressing and positively impacting complex environmental justice issues in various communities by pursuing holistic, proactive strategies;

• Opportunities to increase the effective use of federal and other partner resources in addressing environmental justice and community revitalization concerns;

• Opportunities for community-based organizations to play a major role in identifying and defining environmental justice issues affecting the community, and actively participating, from the beginning, in the creation, design, and implementation of a proposal to address that problem;

• Opportunities to strengthen community capacity-building skills and expertise (e.g., effective grant writing and development, business plan drafting, navigating governments and private institutions, understanding how to leverage resources, develop partnerships with greater capacity to address concerns, and improve use of limited budgets to meet project goals);

• Opportunities for a business to move beyond the morass of controversy over past incidents and problems and to focus proactively on new, constructive collaborations and partnerships to help improve the conditions of the communities in which businesses operate (businesses wishing to join others in understanding community needs and vision are invited to support their communities' application and be full participants in the collaborative process); and

• Opportunities to leverage resources through the participation of additional federal partners and the participation and commitments of other stakeholders (state, tribal and local government agencies, businesses/industry, foundations, redevelopment and financial groups).

What Do Current IWG Demonstration Project Participants Have To Say?

“The demonstration project designation elevated the interest of local government, where as before communities concerns were not on their radar screen. The federal interest in partnering with our community, and the federal recognition of our role as a major stakeholder, ensured our participation in the planning, decision-making, and implementation process. The federal interest and recognition secured our place at the table. Through initial support from federal agencies, funds were leveraged from the private sector to support project activities.”

Harold Mitchell, Executive Director, ReGenesis, Spartanburg, South Carolina, February 2002

“Bridges to Friendship (B2F) has benefitted in a number of ways from serving as a federal demonstration project. We came to the project with both a story to tell and a partnership to develop. We needed to do a better job at getting the word out on B2F accomplishments and the Interagency Work Group on Environmental Justice helped us to do that. We also wanted to connect with additional federal agencies with expertise, resources and a common desire to support our town, Washington DC. As a result of the project we are currently developing a Memorandum of Understanding to partner with US Department of Transportation. The most intangible but most important benefit is the extension of our networks, the connections. A new relationship, or just a conversation, that would not have otherwise taken place, brings tremendous value to our effort, our community and the EJ cause. Most importantly, serving as an EJ demonstration project has helped us in the most fundamental aspect of collaboration—that of building trust with our community.”

Rear Admiral Christopher Weaver, Commandant, Naval District Washington, January 2002

(English Translation) “It is great to participate in the project. It is important that the officials hear directly from the community residents and learn other points of view. It has been great to have all of the agencies, organizations and community residents come together, in the same place.”

Sonia Rodriguez, Barrio Logan Community Resident, San Diego, California, February 2002

“Rhodia is pleased to be part of the Arkwright demonstration project in Spartanburg, S.C. The project has helped us to build a stronger partnership with our community and gain a better understanding of our neighbors and their concerns. Being actively involved in our communities is important to us. We look forward to continuing our participation in the project and supporting community activities in the Arkwright neighborhood.”

Jim Trafton, Plant Manager, Rhodia Inc., Spartanburg, S.C., March 2002

Environmental Justice Revitalization Projects Overview

A. Purpose of an IWG Environmental Justice Revitalization Project

The purpose of an IWG Environmental Justice Revitalization Project is to demonstrate the effectiveness of collaborative models to achieve environmental justice and promote community revitalization. The projects selected are intended to demonstrate the “best practices” of comprehensive, collaborative, and integrated problem-solving approaches to address the range of interrelated environmental, public health, economic, and social concerns that collectively are known as environmental justice issues. These projects are based upon voluntary, local partnerships that build upon a holistic community vision. Centered in urban, tribal and rural communities across the country, the demonstration projects focus on improving the quality of life for minority, low-income, and tribal populations through environmental protection, economic development, neighborhood revitalization, community education, public health promotion, and capacity building.

The IWG demonstration projects foster proactive, collaborative efforts that bring agencies, at all levels of government, to partner with diverse stakeholders in impacted communities. Together at “the table” for the first time, in some cases, participants: (1) Better understand each other's perspectives; (2) identify mutual interests and priorities; and (3) with this broader and shared view, mobilize existing resources (i.e., social, human, and financial resources) for the purpose of creating win-win solutions.

B. Main Goals of an IWG Environmental Justice Revitalization Project

The main goals of the IWG Environmental Justice Revitalization Projects are: (1) To support and encourage better leveraging of existing federal resources to support local efforts to address environmental justice concerns and promote community revitalization, (2) to support strong potential partnerships, and (3) to identify the “best practices” of the effective collaborative partnerships with communities, governmental agencies, and other stakeholders working on solutions to environmental justice issues facing communities.

C. Elements of Success for Environmental Justice Collaborative Model

Six major design elements have been identified from the first round of IWG demonstration projects as key factors to the success of the environmental justice collaborative model. These are the following:

1. Community-based Leadership Formation and Issue Identification.

2. Capacity- and Partnership-Building in a Multi-Stakeholder Process.

3. Supportive and Facilitative Role of Government.

4. Strategic Planning and Community Vision.

5. Sound Implementation.

6. Identification of Lessons Learned and Replication of Best Practices.

A table with examples of these design elements is provided in Appendix A. These elements are offered as a framework for thinking about how to describe the proposed project. They provide useful parameters to identify a potentially successful project. Please note that no single project is expected to have all these elements.

D. Assistance in Developing Project Nominations

The IWG recognizes that putting together a project proposal for a multi-stakeholder collaborative partnership capable of addressing the issues in environmentally and economically distressed communities is difficult, particularly for community-based organizations with limited resources. The IWG suggests that project applicants rely on assistance from federal agencies as well as other potential project partners. In most cases, such relationships and partnerships already exist, and potential project applicants should build upon such relationships.

For example, interested parties who have an idea or question as to how a particular federal agency would fit into their vision could call one of the EJ Coordinators of the agency or that agency's IWG representative to discuss the possibility, ideas, and interest in the potential project. A community-based organization that does not have sufficient financial resources or skills in proposal writing might consider inviting and partnering with others (e.g., another organization, university, or local government agency) that have a greater capacity for preparing such a proposal. In addition, potential project applicants can obtain a description and contact information for each of the 15 current IWG demonstration projects from the EPA environmental justice Web site. These demonstration project contacts also can be a source of valuable advice.

A list of the IWG federal agency representatives and EPA Regional Environmental Justice Coordinators is provided in Appendix C. The EPA Environmental Justice Web site (Page 1) provides copies of the Federal Interagency Environmental Justice Directory as well as information on current IWG demonstration projects, including the IWG Demonstration Projects Status Report, Environmental Justice Collaborative Model: A Framework to Ensure Local Problem-Solving.

III. Project Technical Considerations

A. Potential Applicants

Any organization or group of organizations involved in collaborative multi-stakeholder partnerships to address local environmental justice concerns can submit their proposal for consideration. These organizations include community-based organizations, academia, business and industry, civic and faith-based organizations, other interested groups, and all levels of government (federal, state, tribal or local). Each project must include at least two federal agencies, and serve a minority, low-income, or tribal community by addressing one or more environmental justice concerns.

B. Essential Project Components

1. To be eligible, each project must include at least two federal agencies. Federal involvement must include some type of resource contributions to the project, such as contributions of staff time, grants, loans, invitational travel, meeting support, in-kind services, technical resources or other funds.

2. The project must have a mix or a potential mix of partnerships or established relationships that include local partners such as state, tribal and local government agencies, businesses and the private sector, community-based organizations, tribal organizations, local chapters of national associations (e.g., chambers of commerce or environmental organizations), community or economic development corporations, foundations, faith-based organizations, and other organizations that can contribute to the success of the project.

3. The proposal must have clear objectives, implementation guidelines, and benefits for environmentally and economically distressed communities.

4. The proposal must include non-federal partners committing resources to the project such as contributions of staff time, grants, loans, invitational travel, meeting support, in-kind services, technical resources, or other funds.

5. The proposal must include verifiable partners. Information provided should include, where available and appropriate: Organization Names, Contact Names, Mailing and Electronic Mailing Addresses, and Phone Numbers.

IV. Project Descriptions

A. Proposal Format

1. Proposal narratives should be approximately 10 pages in length. While it is estimated that 10 pages is an optimal length, all proposals, no matter how short or how long, will be given full consideration.

2. To the greatest extent possible, each project narrative should follow the six questions provided in the Project Narrative Section below. Project applicants should attempt to answer each question to the best of their abilities, but should not be discouraged if they cannot answer all questions completely. As emphasized in other sections of this document, no single project is expected to contain all the elements identified in the Elements of Success for Environmental Justice Collaborative Model (Page 11).

3. Supportive materials, where available, should be attached. These supportive materials may include photos, maps, news articles, and commitment or endorsement letters.

B. Proposal Narratives

1. Describe and discuss how the project will address one or more environmental justice concerns of a minority, low-income, or tribal community(ies). Provide a description of the project's overall objectives/expected benefits, the community(ies) being served, geographic location of the community, and implementation approaches. This should include the following:

a. Work plan which describes the project's overall objectives, milestones, and expected benefits.

b. Description of the community(ies) being served (e.g. demographics, geographic location, community history and assets, issues).

c. Description of the project's implementation process.

2. As stated earlier in Section II-C, six major design elements have been identified as being key factors to the success of environmental justice collaborative models. They are the following:

a. Community-based Leadership Formation and Issue Identification.

b. Capacity- and Partnership-Building in a Multi-Stakeholder Process.

c. Supportive and Facilitative Role of Government.

d. Strategic Planning and Community Vision.

e. Sound Implementation.

f. Identification of Lessons Learned and Replication of Best Practices.

Please provide the following responses as appropriate:

a. Description of any of the design elements that are in the project design and how they contribute to the overall success of the project.

b. Description of how the remaining elements not covered in the response to Question 2-a will be integrated into the project.

c. Description of ways that participating federal agencies can provide assistance in developing and incorporating any of the design elements in the project.

A great deal of thought should be given to the responses for Question 2 because these design elements are essential to the success of the environmental justice collaborative model. To assist in answering this question, a table containing examples of these design elements is provided in Appendix A. No single project is expected to have all these elements. Nor should the list of design element examples be used as a checklist because every community and every issue is unique.

3. Describe the partnership(s) and how they were formed, the roles and responsibilities of each partner, leadership role(s) of the relevant organizations, and the factors that enable the partnership to function well. This should include the following:

a. Description of how the relationship(s) or partnership(s) were formed.

b. Description of what elements or factors enable the partnership(s) to function well.

c. Description of the leadership roles of the local community organizations.

4. List the federal agency partners. Describe the federal agencies' role, commitment of staff, funding resources, and other contributions to the partnership. Include commitment letters from the federal agencies, and identify the agency's role in the project and an agency point of contact. This should include the following:

a. Description of the federal agencies' roles (e.g. responsibilities, commitment of staff, federal agency coordinator's contact information, funding resources, and other contributions).

b. Commitment letters from federal agencies discussing their roles and commitments.

c. Description of other federal agencies that should be involved in the future and ways by which IWG (or existing partners) can assist to bring about such involvement.

5. Describe how the non-federal partners (such as, state, local or tribal government agencies, businesses and the private sector, community-based organizations, local chapters of national associations such as chambers of commerce or environmental organizations, community development corporations (CDCs), and other organizations) are contributing to the success of the project. Include a list of the partners (contact name, address, phone number, electronic mail and fax numbers—if applicable), their resource commitments (e.g. staff, funds, meeting space), a clear description of their roles in the project, and letters of commitment from the leadership of the various partners is required. Describe how other government agencies and organizations (currently not partners) can contribute to the project. This should include the following:

a. Description of the roles and responsibilities of each non-federal partner, including the resource commitments of each partner (e.g. staff, funding, meeting space).

b. Provide a list of the partners' points of contact (e.g. name, address).

c. Discussion on how other (non-partner) government agencies and organizations can contribute to the project.

6. Describe how the proposed project will contribute to some aspect of community revitalization (e.g., land use, environmental and ecological, health, economic, social, and local capacity)?

V. Selection Process

A. Review Panel

A panel consisting of representatives from the various federal agencies participating in the IWG will review the proposals. Conference calls will be held with the “finalists” to ensure all parties understand the intent of the program and to confirm the roles of the partners, prior to selections. The IWG will make the final selections from among the top applicants.

Among the proposals receiving the highest ranking, the IWG may take into account the geographic location and diversity of the proposed projects when making final selections.

B. Selection Date

Selections are expected to be completed by November 15, 2002. Applicants will be notified by December 1, 2002.

VI. Program Schedule for 2002

Development of Proposals and Submission to EPA/IWG—April 15-August 16

IWG Reviews Proposals—September 1-October 15

Final Selections Completed—November 15

National Announcement of Selections—December 1, 2002

VII. Reporting

The lead coordinators of the selected demonstration projects will be asked to submit semi-annual reports to update the IWG on the project's progress. The reports should include, but not be limited to, information on:

• Tasks accomplished.

• Results achieved.

• Resources committed.

• Partners added.

• Issues/problems encountered and method for resolution.

Appendix A

Elements of Success for Environmental Justice Collaborative Model

The following major design elements have been identified as being key factors to the success of the environmental justice collaborative model. Examples are provided in the following table. The IWG identified these elements of success in order to develop a template for a holistic, integrated, and collaborative approach to addressing the environmental justice needs of distressed communities. Given that each community and each issue is unique, no single project is expected to have all these elements. Nor should the list of design element examples be used as a check list. The IWG believes that this template is a tool that all groups engaged in building collaborative community-based partnerships could find useful. Such groups should use these elements as a guide for strategic planning and project design.

Element of Success and Examples of Design Elements

1. Community-Based eadership Formation and Issue Identification

• Identify and build on existing leadership and expertise in impacted communities.

• Involve residents at the beginning in identifying concerns and crystallizing issues.

• Conduct local education, outreach, fact-finding and assessments.

• Build from a strong understanding of community history, practice and culture.

• Identify early on potential partners from all stakeholder groups.

• Provide training on environmental justice for all stakeholder groups.

• Assess whether or not conditions are ripe for collaboration.

2. Capacity- and Partnership-Building in a Multi-Stakeholder Process

• .Facilitate dialogue between different stakeholders.

• Build upon existing organizational capacity within community.

• Use consensus building or alternative dispute resolution, as appropriate.

• Secure commitments from multiple, appropriate government agencies and non-governmental organizations.

• Establish a formal multi-stakeholder partnership.

• Design processes to ensure fair treatment and meaningful participation of all stakeholders.

• Foster capacity-building through training, mentoring, technical assistance, or resource support.

• Integrate environmental justice into ongoing training efforts.

• Design processes that help ensure community education and capacity building in the future.

• Establish processes that allow for inclusion of new partners as they emerge.

3. Supportive and Facilitative Role of Government

• Ensure interagency coordination and cooperation between multiple federal agencies.

• Foster intergovernmental coordination and cooperation between federal, state, local and/or tribal agencies.

• Secure clear commitments (technical assistance, coordination, resources) from government agencies.

4. Strategic Planning and Community Vision

• Facilitate articulation of community vision, its aspirations based upon community-based planning and methods.

• Determine community assets (e.g., technical, financial, social, cultural, natural resource) and deficits (e.g., environmental degradation, abandoned buildings, lack of infrastructure).

• Utilize tools for comprehensive community planning (e.g. GIS, planning charettes).

• Identify, target and leverage assets from all sources (e.g. community, government, industry, academia, foundations).

• Reinforce community values.

5. Sound Implementation

• Develop Implementation Plan with shared goals, well defined objectives, timelines, action plans, commitments.

• Design projects to build on strengths, deficits, resources, and capacity of partners, especially the community's.

• Identify, nurture and promote collaborations with win/win scenarios.

• Obtain clear, written commitments from partners (possibly use a memorandum of agreement).

• Cluster and order tasks to promote efficient use of time and resources

• Develop methodology to measure and evaluate impact on community and stakeholders.

• Identify and build upon small successes.

• Add to and strengthen partnerships as new issues and relationships are understood.

• Build on community and organizational capacity through implementation to facilitate next phase.

• Ensure resolution of conflict or potential conflicts (possibly through the use of Alternative Dispute Resolution).

6. Identification of Lessons Learned and Replication of Best Practices

• Clearly define measures of success of project of objectives, processes, outputs, institutional effects, and quality-of-life results.

• Understand and evaluate, from different stakeholder perspectives, indicators used to measure success.

• Incorporate lessons learned into ongoing processes, both inside and outside of the community.

• Develop a “template” for successful collaborative models, based upon community experience.

• Develop mechanisms to integrate lessons into future efforts as new issues and challenges are identified.

• Share, publish, and disseminate experiences and lessons learned.

Appendix B

Federal Interagency Working Group on Environmental Justice

The Federal Interagency Working Group (IWG) on Environmental Justice was created by Executive Order 12898 (1994).

The Executive Order delineates the IWG agency responsibilities as follows: “To the extent practicable and permitted by law, and consistent with the principles set forth in the report on the National Performance Review, each Federal agency shall make achieving environmental justice part of its mission by identifying and addressing, as appropriate, disproportionately high and adverse human health or environmental effects of its programs, policies, and activities on minority populations and low-income populations'. * * *” Additionally, the order calls for the IWG to “develop interagency model projects on environmental justice that evidence cooperation among Federal agencies'.

The IWG has focused on three activities to support collaborative, problem-solving partnerships: (1) Nurturing and promoting local demonstration projects, (2) promoting a national dialogue on collaborative models; and (3) identifying the elements of success for developing a coherent collaborative model.

Nurture and Promote Local Demonstration Projects

The IWG demonstration projects foster proactive, collaborative efforts that bring agencies, at all levels of government, together with diverse stakeholders in impacted communities. The main goal is to encourage better leveraging of existing federal resources, support local projects that promote among other federal agencies the addition of other federal resources to the projects.

Promote National Dialogue on Building Collaborative Models

In order to create a broad-based consensus on the appropriate use of a collaborative model, the IWG is promoting a national dialogue on building collaborative models to achieve environmental justice goals. One goal of such a dialogue is to ensure a common understanding among all stakeholder groups of this framework and share lessons which each group can apply. IWG members have conducted meetings and briefings for community, business, industry, faith-based groups, and state, local and tribal government partners and stakeholders. This also has identified new partners and builds interest in applying this model to their situations.

Identify Elements of Success for Developing a Coherent Collaborative Framework

Based upon the experience gained thus far, the IWG is systematically identifying the elements of success common to all collaborative models. In addition, the IWG, through the efforts of the EPA Office of Policy, Economics, and Innovation, is developing an evaluation framework for the IWG collaborative model. These activities have been instrumental for creating a common understanding of collaborative models to achieve environmental justice across the gamut of stakeholders. It is important to create a deeper understanding of the mechanisms involved and to help diverse stakeholders in impacted communities to understand the value and benefits of the voluntary and cooperative approach. Without a common understanding of the appropriate use and value of these models, stakeholders will lack the knowledge they need to overcome the lack of trust and adversarial relations.

Additional information on the Interagency Working Group on Environmental Justice can be found at the following Web address: http://www.epa.gov/compliance/recent/ej.html.

Appendix C—Contacts

Federal Interagency Environmental Justice Working Group Contacts

EPA: Charles Lee, Associate Director for Policy & Interagency Liaison, Office of Environmental Justice, U.S. Environmental Protection Agency, 401 M Street, SW-Mail Code 2201 A, Washington, DC 20460, Phone: 202/564-2597 Fax: 202/501-1163, E-mail: lee.charles@epamail.epa.gov

DOC/EDA: Dennis Alvord, Economic Development Specialist, Economic Development Administration, U.S. Department of Commerce, 14th St. & Constitution Ave., NW (Room 7326), Washington, DC 20230, Phone: 202/482-4320 Fax: 202/219-9007, E-mail: DAlvord@eda.doc.gov

DOC/NOAA: Roan Conrad, Director, Office of Sustainable Development and Intergovernmental Affairs, National Oceanic and Atmospheric Administration (NOAA), U.S. Department Of Commerce, 14th St. & Constitution Ave., NW (Room 5222), Washington, DC 20230, Phone: 202/482-3384 Fax: 202/482-2663, E-mail: roan.conrad@noaa.gov

DOE: Melinda Downing, Environmental Justice Program Manager, Office of Environmental Management, U.S. Department of Energy, 1000 Independence Ave., SW, Washington, DC 20585, Phone: 202/586-7703 Fax: 202/586-0293, E-mail: melinda.downing@EM.DOE.gov

DOL: Babette D. Williams, Program Analyst and Environmental Justice Coordinator, Office of the Assistant Secretary, U.S. Department of Labor, 200 Constitution Avenue, NW, Washington, DC 20210, Phone: 202/693-5910 Fax: 202/693-5960, E-mail: williams-babette@dol.gov

DOJ: Quentin C. Pair, Attorney, Environmental Enforcement Section, U.S. Department of Justice (DO/END/PLS), 1425 New York Avenue, NW (Room 11017), Washington, DC 20005, Phone: 202/514-1999 Fax: 202/514-0097, E-mail: quentin.pair@usdoj.gov

DOI: Willie R. Taylor, Director, Office of Environmental Policy and Compliance, Office of the Secretary, U.S. Department of Interior-MS2340, 1848 C Street, NW (Room 2355), Washington, DC 20240, Phone: 202/208-3891 Fax: 202/208-6970, E-mail: willie_taylor@ios.doi.gov

DOT: Marc Brenman, Senior Policy Advisor for Civil Rights, Office of Civil Rights, U.S. Department of Transportation 400 7th Street, SW, Washington, DC 20590, Phone: 202/366-1119 Fax: 202/366-9371, E-mail: marc.brenman@ost.dot.gov

DOD: Len Richeson, Environmental Protection Specialist, Office of the Deputy Under Secretary of Defense, U.S. Department of Defense, 3400 Defense Pentagon, Room R3E792, Washington, DC 20301-3400, Phone: 703/604-0518 Fax: 703/607-4237, E-mail: richeslh@acq.osd.mil

HHS/NIEHS: Charles A. Wells, Director, Environmental Justice, Health Disparity and Public Health, Office of the Director, National Institute of Environmental Health Sciences (NIEHS), 31 Center Drive, Building 31-Room B1CO2-MSC 22-2256, Bethesda, MD 20892-22056, Phone: 301/496-2920 Fax: 301/496-0563, E-mail: wells1@niehs.nih.gov

HHS/ATSDR: Reuben C. Warren, Associate Administrator for Urban Affairs, Office of Urban Affairs, Agency for Toxic Substances &Disease Registry, 1600 Clifton Road, NE MS E28, Atlanta, GA 30333, Phone: 404/498-0111 Fax: 404/498-0087, E-mail: RCW4@cdc.gov

HUD: Richard Broun, Director, Office of Environment and Energy, U.S. Department of Housing and Urban Development, 451-7th Street, SW Room 7240, Washington, DC 20410, Phone: 202/708-2894 ext. 4439 Fax: 202/708-3363, E-mail: richard—broun@hud.gov

Antoinette Sebastian, Senior Community Environmental Planner, Office of Environment and Energy, U.S. Department of Housing and Urban Development 451-7th Street, SW Room 7248, Washington, DC 20410, Phone: 202/708-0614 ext. 4458 Fax: 202/708-3363, E-mail: antoinette—sebastian@hud.gov

USDA/USFS: Robert Ragos, Title VI & Related Program Manager, Office of Civil Rights, U.S. Department of Agriculture/Forest Service, 201 14 Street SW, Room 4SW, Washington, DC 20250, Phone: 202/205-0961 Fax: 202/690-2510, E-mail: rragos@fs.fed.us

EPA Regional Environmental Justice Coordinators Contact Names and Addresses

Region 1: Connecticut, Maine, Massachusetts, New Hampshire, Rhode Island, Vermont

Name: Kathy Castagna

Address: U.S. Environmental Protection Agency, One Congress Street, 11th Floor, Boston, MA 02203-0001,

Phone: 617-918-1429 F: 617-918-1029

E-Mail: castagna.kathy@epa.gov

Region 2: New Jersey, New York, Puerto Rico, U.S. Virgin Islands

Name: Terry Wesley

Address: U.S. Environmental Protection Agency, 290 Broadway, 26th Floor,New York, NY 10007

Phone: 212-637-5027 F: 212-637-4943

E-Mail: wesley.terry@epa.gov

Region 3: Delaware, District of Columbia, Maryland, Pennsylvania, Virginia, West Virginia

Name: Reginald Harris

Address: U.S. Environmental Protection Agency, 1650 Arch St. (MC-3ECOO), Philadelphia, PA 19103,

Phone: 215-814-2988 F: 215-814-2905

E-Mail: harris.reggie@epa.gov

Region 4: Alabama, Florida, Georgia, Kentucky, Mississippi, North Carolina, South Carolina, Tennessee

Name: Cynthia Peurifoy

Address: U.S. Environmental Protection Agency, 61 Forsyth Street, Atlanta, GA 30303

Phone: 404-562-9649 F: 404-562-9664

E-Mail: peurifoy.cynthia@epa.gov

Region 5: Illinois, Indiana, Michigan, Minnesota, Ohio, Wisconsin

Name: Karla Owens

Address: U.S. Environmental Protection Agency, 77 West Jackson Blvd. T-16J, Chicago, IL 60604-3507

Phone: 312-886-5993 F: 312-886-2737

E-Mail: owens.karla@epa.gov

Region 6: Arkansas, Louisiana, New Mexico, Oklahoma, Texas

Name: Olivia R. Balandran

Address: U.S. Environmental Protection Agency, Fountain Place, 12th Floor, 1445 Ross Ave., (RA-D), Dallas, TX 75202-2733,

Phone: 214-665-7257 F: 214-665-6648

E-Mail: balandran.olivia@epa.gov

Region 7: Iowa, Kansas, Missouri, Nebraska

Name: Althea Moses

Address: U.S. Environmental Protection Agency, 901 North 5th Street, (ECORA), Kansas City, KS 66101

Phone: 913-551-7649 F: 913-551-7941

E-Mail: moses.althea@epa.gov

Region 8: Colorado, Montana, North Dakota, South Dakota, Utah, Wyoming

Name: Elisabeth Evans

Address: U.S. Environmental Protection Agency, 999 18th Street, Suite 500, Denver, CO 80202-2405

Phone: 303-312-6053 F: 303-312-6409

E-Mail: evans.elisabeth@epa.gov

Region 9: Arizona, California, Hawaii, Nevada, American Samoa, Guam

Name: Willard Chin

Address: U.S. Environmental Protection Agency, 75 Hawthorne Street, San Francisco, CA 94105

Phone: 415-972-3797 F: 415-947-3562

E-Mail: chin.willard@epa.gov

Region 10: Alaska, Idaho, Oregon, Washington

Name: Michael Letourneau

Address: U.S. Environmental Protection Agency, 1200 Sixth Avenue (CEJ-163), Seattle, WA 98101

Phone: 206-553-1687 F: 206-553-7176

E-Mail: letourneau.mike@epa.gov

Name: Victoria Plata

Address: U.S. Environmental Protection Agency, 1200 Sixth Avenue (CEJ-163), Seattle, WA 98101

Phone: 206-553-8580 F: 206-553-7176

E-Mail: plata.victoria@epa.gov

Dated: April 11, 2002.
Barry E. Hill,
Director, Office of Environmental Justice.

[FR Doc. 02-9913 Filed 4-23-02; 8:45 am]

BILLING CODE 6560-50-P